FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreements are available through the Commission's website (www.fmc.gov) or by contacting the Office of General Counsel at (202) 523-5740 or GeneralCounsel@fmc.gov.

Agreement No.: 201175-009.

Agreement Name: Port of NY/NJ Sustainable Services Agreement.

Parties: APM Terminals Elizabeth, LLC; Port Liberty Bayonne, LLC; Port Liberty New York LLC; Port Newark Container Terminal LLC; Red Hook Container Terminal, LLC.

Filing Party: Carol Lambos, The Lambos Firm LLP.

Synopsis: The Amendment would add Maher Terminals, LLC as a party to the Agreement. The Parties have requested expedited review.

Proposed Effective Date: 2/2/2026.

Location: https://www2.fmc.gov/FMC.Agreements.Web/Public/AgreementHistory/90637.

Agreement No.: 201210-005.

Agreement Name: Port of NY/NJ—Port Authority/Marine Terminal Operators Agreement.

Parties: APM Terminals Elizabeth, LLC; Port Liberty Bayonne, LLC; Port Newark Container Terminal LLC; Red Hook Container Terminal, LLC.

Filing Party: Carol Lambos, The Lambos Firm LLP.

Synopsis: The Amendment would add Maher Terminals, LLC as a party to the Agreement. The Parties have requested expedited review.

Proposed Effective Date: 2/6/2026.

Location: https://www2.fmc.gov/FMC.Agreements.Web/Public/AgreementHistory/90640.

Agreement No.: 201462.

Agreement Name: ONE to COSCO AL5 Slot Charter Agreement.

Parties: Ocean Network Express Pte. Ltd.; and COSCO SHIPPING Lines Co., Ltd.

Filing Party: Joshua Stein, Cozen O'Connor.

Synopsis: The Agreement authorizes ONE to charter space to COSCO on its services in the trade between ports on the U.S. East Coast/Gulf and the U.S. West Coast on the one hand and ports in the United Kingdom, Germany, France, the Netherlands, Belgium, Colombia, Dominican Republic, and Panama on the other hand.

Proposed Effective Date: 12/18/2026.

Location: https://www2.fmc.gov/FMC.Agreements.Web/Public/AgreementHistory/89638.

Agreement No.: 201463.

Agreement Name: ZIM/SVL Space Charter Agreement.

Parties: Serviport Marine Line—SVL LLC; and ZIM Integrated Shipping Services Limited.

Filing Party: Wayne Rohde, Cozen O'Connor.

Synopsis: The agreement authorizes SVL to charter space to ZIM in the trade between the US East Coast and Puerto Cortes, Honduras.

Proposed Effective Date: 12/23/2026.

Location: https://www2.fmc.gov/FMC.Agreements.Web/Public/AgreementHistory/90639.

Dated: January 6, 2026.
Jennifer Everling,
Assistant Secretary.

[FR Doc. 2026-00166 Filed 1-7-26; 8:45 am]

BILLING CODE 6730-02-P